DEPARTMENT OF THE INTERIOR

Bureau of Land Management

[IDI-04319]

Public Land Order No. 7764; Partial Revocation of Public Land Order No. 1479; Idaho

AGENCY: Bureau of Land Management, Interior.

ACTION: Public Land Order.

SUMMARY: This order revokes a Public Land Order insofar as it affects 0.21 acres of National Forest System land withdrawn on behalf of the United States Forest Service for Priest Lake Recreation Areas within the Kaniksu National Forest. The order also opens the land to disposition under the Small Tracts Act.

DATE: Effective Date: June 1, 2011.

FOR FURTHER INFORMATION CONTACT: Laura Bingham, BLM Idaho State Office, 1387 S. Vinnell Way, Boise, Idaho 83709, 208-373-3866, or Scott Bixler USDA Forest Service, Region 1, Federal Building, 200 E. Broadway Street, Missoula, Montana 59802, (406) 329-3655.

SUPPLEMENTARY INFORMATION: The revocation is needed to make the land available for disposal under the Small Tracts Act (16 U.S.C. 521c-521i).

Order

By virtue of the authority vested in the Secretary of the Interior by Section 204 of the Federal Land Policy and Management Act of 1976, 43 U.S.C. 1714, it is ordered as follows:

1. Public Land Order No. 1479, which withdrew National Forest System lands from all forms of appropriation under the public land laws, including the mining laws, but not the mineral leasing laws, and reserved them for use of the Forest Service as recreation areas, administrative and public service sites, is hereby revoked insofar as it affects the following described land:

Boise Meridian

Kaniksu National Forest

T. 60 N., R. 4 W.,

A tract of land in section 6, lot 10 and section 7, lot 2, more particularly described as Amended S.T.A. ID 252 in the Record of Survey recorded June 4, 2008, as Instrument No. 752631, Bonner County, Idaho.

The area described contains 0.21 acres in Bonner County.

2. At 9 a.m. on June 1, 2011, the land described in Paragraph 1 shall be opened to disposition under the Small Tracts Act (16 U.S.C. 521c-521i), subject to valid existing rights, the provisions of existing withdrawals, other segregations of record, and the requirements of applicable law.

Dated: April 20, 2011.
Wilma A. Lewis,
Assistant Secretary—Land and Minerals Management.

[FR Doc. 2011-10608 Filed 4-29-11; 8:45 am]

BILLING CODE 3410-11-P